DEPARTMENT OF JUSTICE

8 CFR Ch. V

21 CFR Ch. I

27 CFR Ch. II

28 CFR Ch. I, V

48 CFR Ch. XXVIII

Regulatory Agenda

AGENCY: Department of Justice.

ACTION: Semiannual regulatory agenda.

SUMMARY: The Department of Justice is publishing its spring 2019 regulatory agenda pursuant to Executive Order 12866, “Regulatory Planning and Review,” 58 FR 51735, and the Regulatory Flexibility Act, 5 U.S.C. 601 to 612 (1988).

FOR FURTHER INFORMATION CONTACT: Robert Hinchman, Senior Counsel, Office of Legal Policy, Department of Justice, Room 4252, 950 Pennsylvania Avenue NW, Washington, DC 20530, (202) 514-8059.

SUPPLEMENTARY INFORMATION: Beginning with the fall 2007 edition, the internet has been the basic means for disseminating the Unified Agenda. The complete Unified Agenda will be available online at www.reginfo.gov in a format that offers users a greatly enhanced ability to obtain information from the Agenda database.

Because publication in the Federal Register is mandated for the regulatory flexibility agendas required by the Regulatory Flexibility Act (5 U.S.C. 602), the Department of Justice's printed agenda entries include only:

(1) Rules that are in the Agency's regulatory flexibility agenda, in accordance with the Regulatory Flexibility Act, because they are likely to have a significant economic impact on a substantial number of small entities; and

(2) any rules that the Agency has identified for periodic review under section 610 of the Regulatory Flexibility Act.

Printing of these entries is limited to fields that contain information required by the Regulatory Flexibility Act's Agenda requirements. Additional information on these entries is available in the Unified Agenda published on the internet.

Dated: March 6, 2019.
Beth A. Williams,
Assistant Attorney General, Office of Legal Policy.

Bureau of Alcohol, Tobacco, Firearms, and Explosives—Completed Actions
Sequence No. | Title | Regulation Identifier No.
132 | Bump-Stock-Type Devices | 1140-AA52

DEPARTMENT OF JUSTICE (DOJ)

Bureau of Alcohol, Tobacco, Firearms, and Explosives (ATF)

Completed Actions

132. Bump-Stock-Type Devices

E.O. 13771 Designation: Regulatory.

Legal Authority: 18 U.S.C. 921 et seq.; 26 U.S.C. 5841 et seq.

Abstract: The Department of Justice is issuing a rulemaking that would interpret the statutory definition of machinegun in the National Firearms Act of 1934 and Gun Control Act of 1968 to clarify whether certain devices, commonly known as bump-fire stocks, fall within that definition.

Completed:

Reason | Date | FR Cite
Final Action | 12/26/18 | 83 FR 66514
Final Action Effective | 03/26/19 |

Regulatory Flexibility Analysis Required: Yes.

Agency Contact: Vivian Chu, Phone: 202 648-7070, Email: vivian.chu@atf.gov.

RIN: 1140-AA52

[FR Doc. 2019-12078 Filed 6-21-19; 8:45 am]

BILLING CODE 4410-CW-P